DEPARTMENT OF DEFENSE

GENERAL SERVICES ADMINISTRATION

NATIONAL AERONAUTICS AND SPACE ADMINISTRATION

[OMB Control No. 9000-0060; Docket 2012-0076; Sequence 20]

Federal Acquisition Regulation; Information Collection; Accident Prevention Plans and Recordkeeping

AGENCY: Department of Defense (DOD), General Services Administration (GSA), and National Aeronautics and Space Administration (NASA).

ACTION: Notice of request for an extension of an information collection requirement regarding an existing OMB clearance.

SUMMARY: Under the provisions of the Paperwork Reduction Act, Regulatory Secretariat will be submitting to the Office of Management and Budget (OMB) a request to review and approve a reinstatement of a previously approved information collection requirement concerning Accident Prevention Plans and Recordkeeping.

Public comments are particularly invited on: Whether this collection of information is necessary; whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

DATES: Submit comments on or before November 13, 2012.

ADDRESSES: Submit comments identified by Information Collection 9000-0060, Accident Prevention Plans and Recordkeeping by any of the following methods:

• Regulations.gov: http://www.regulations.gov.

Submit comments via the Federal eRulemaking portal by inputting “Information Collection 9000-0060, Accident Prevention Plans and Recordkeeping” under the heading “Enter Keyword or ID” and selecting “Search”. Select the link “Submit a Comment” that corresponds with “Information Collection 9000-0060, Accident Prevention Plans and Recordkeeping”. Follow the instructions provided at the “Submit a Comment” screen. Please include your name, company name (if any), and “Information Collection 9000-0060, Accident Prevention Plans and Recordkeeping” on your attached document.

• Fax: 202-501-4067.

• Mail: General Services Administration, Regulatory Secretariat (MVCB), 1275 First Street NE., Washington, DC 20417. ATTN: Hada Flowers/IC 9000-0060, Accident Prevention Plans and Recordkeeping.

Instructions: Please submit comments only and cite Information Collection 9000-0060, Accident Prevention Plans and Recordkeeping, in all correspondence related to this collection. All comments received will be posted without change to http://www.regulations.gov, including any personal and/or business confidential information provided.

FOR FURTHER INFORMATION CONTACT: Curtis E. Glover, Sr., Procurement Analyst, Contract Policy Division, GSA, telephone (202) 501-1448 or email at curtis.glover@gsa.gov.

SUPPLEMENTARY INFORMATION:

A. Purpose

The FAR clause at 52.236-13, Accident Prevention, requires Federal construction contractors to keep records of accidents incidental to work performed under the contract that result in death, traumatic injury, occupational disease or damage to property, materials, supplies or equipment. Records of personal inquiries are required by the Department of Labor's Occupational Safety and Health Administration regulations. The records maintained by the contractor are used to evaluate compliance and may be used in workmen's compensation cases. The FAR requires records of damage to property, materials, supplies or equipment to provide background information when claims are brought against the Government.

If the contract involves work of a long duration, or hazardous nature, the contracting officer shall insert the clause with its alternate that requires the contractor to submit a written proposed plan for implementing the clause. The plan shall include an analysis of the significant hazards to life, limb, and property inherent in performing the contract and a plan for controlling the hazards. The Accident Prevention Plan is analyzed by the contracting officer along with the agency safety representatives to determine if the proposed plan will meet the requirements of safety regulations and applicable statutes.

B. Annual Reporting Burden

The estimated reporting burden has been adjusted since published in the Federal Register at 74 FR 41133, on August 14, 2009. The adjustment is based on an evaluation of Federal Procurement Data System award information for the services applicable to FAR Clause 52.213-36, and consultation with subject matter experts within the Government that procure such services.

Respondents: 350.

Responses per Respondent: 1.

Annual Responses: 350.

Hours per Response: 24.

Total Burden Hours: 8,400

Obtaining Copies of Proposals: Requesters may obtain a copy of the information collection documents from the General Services Administration, Regulatory Secretariat (MVCB), 1275 First Street NE., Washington, DC 20417, telephone (202) 501-4755. Please cite OMB Control No. 9000-0060, Accident Prevention Plans and Recordkeeping, in all correspondence.

Dated: September 7, 2012.
William Clark,
Acting Director, Federal Acquisition Policy Division, Office of Governmentwide Acquisition Policy, Office of Acquisition Policy, Office of Governmentwide Policy.

[FR Doc. 2012-22558 Filed 9-12-12; 8:45 am]

BILLING CODE 6820-EP-P